FEDERAL COMMUNICATIONS COMMISSION

[OMB 3060-0357, OMB 3060-1028, OMB 3060-1029; FR ID 134829]

Information Collections Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written PRA comments should be submitted on or before June 5, 2023. If you anticipate that you will be submitting comments but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control No.: 3060-0357.

Title: Recognized Private Operating Agency (RPOA), 47 CFR 63.701.

Form Number: N/A.

Type of Review: Revision of a currently approved collection.

Respondents: Business or other for-profit.

Number of Respondents: 2 respondents; 3 responses.

Estimated Time per Response: 3-6 hours.

Frequency of Response: On occasion reporting requirement.

Obligation To Respond: Required to obtain or retain benefits. The Commission has statutory authority for this collection pursuant to Sections 4(i), 4(j), 201-205, 214 and 403 of the Communications Act of 1934, as amended, 47 U.S.C. 154(j), 201-25, 214 and 403.

Total Annual Burden: 8 hours.

Annual Cost Burden: $4,810.

Needs and Uses: The Federal Communications Commission (Commission) is requesting that the Office of Management and Budget (OMB) to approve a revision to OMB Control No. 3060-0357—Recognized Private Operating Agency—47 CFR 63.701. The Commission is developing revised and new electronic forms for this collection as part of the Commission's modernization of its online, web-based electronic filing system—the International Bureau filing system (IBFS). This Supporting Statement seeks approval for the new and revised forms for requests to be designated as a Recognized Operating Agency (ROA), and reflects changes in the costs and burdens associated with these applications.

At the request of the U.S. Department of State (State Department), the Commission adopted a voluntary program by which companies that provide enhanced services could seek designation as a recognized private operating agency. The term recognized private operating agency was used in the International Telecommunication Convention, the international agreement that created the International Telecommunication Union (ITU), to refer to private-sector providers of international telecommunication services that had been “recognized” either by the government of the country in which they had been incorporated, or the country where they operated. Today, the term recognized private operating agency is interchangeable with the term recognized operating agency (ROA).

Most providers of international telecommunications services to or from the U.S. hold either an authorization under section 214 of the Communications Act or a radio license under section 301 of the Act. The issuance of such authorizations or licenses is public evidence that the U.S. government “recognizes” the entities to which they are issued. However, providers of enhanced services are not licensed or authorized. They are permitted to begin operations without any formal applications or notifications. It is not, therefore, immediately apparent to foreign governments that a U.S. enhanced service provider has been “recognized” within the meaning of the ITU Convention. As a consequence, such entities have sometimes found foreign governments unwilling to let them operate in those countries.

As a result, providers requested that the Commission and the State Department develop a program whereby enhanced service providers could be formally designated as ROAs. The program that was developed calls for those entities wishing to obtain such a designation to submit an application to the Commission setting forth pertinent information about the provider and the services it proposes to provide and a pledge by the provider that it would abide by all international obligations to which the U.S. is a signatory. The Commission places the application on public notice and allows interested parties to comment on the application.

The Commission then makes a recommendation, based on the application and comments, to the State Department either to grant or deny the request. The State Department then acts on the recommendation and notifies the ITU of any applications that it grants. ROA designation is voluntary. If an enhanced service provider does not find such designation necessary, it is not required to file an application.

In order to implement this program, the Commission adopted 47 CFR 63.701 to set forth the information that must be contained in an application for designation as an ROA. ROA designations do not have expiration dates. They continue indefinitely, unless revoked for cause. ROAs are not required to file any reports or other information with the Commission throughout their indefinite period of designation.

Any party requesting designation as an ROA within the meaning of the International Telecommunication Convention must file a request for such designation with the Commission. This filing includes a statement of the nature of the services to be provided and a statement that the applicant is aware that it is obligated under Article 6 of the ITU to obey the mandatory provisions thereof, and all regulations promulgated there under, and a pledge that it will engage in no conduct or operations that contravene such mandatory provisions and that it will otherwise obey the Convention and regulations in all respects. The applicant must also include a statement that it is aware that failure to comply will result in an order from the Commission to cease and desist from future violations of an ITU regulation and may result in revocation of its ROA status by the State Department .

IBFS Modernization of ROA Electronic Forms. The Commission seeks OMB approval of revisions to its ROA application forms and the addition of new forms that will be electronically filed through IBFS. The new online forms will ensure the Commission collects the information required by the Commission's rules. The use of such online forms will reduce costs and administrative burdens on applicants, resulting in greater efficiencies, and improve transparency to the public. Once the Commission receives approval for the new forms from OMB, as required by section 1.10006 of the Commission's rules, we will announce the availability of mandated e-forms and their effective dates.

OMB Control No.: 3060-1028.

Title: International Signaling Point Code (ISPC).

Form No.: N/A.

Type of Review: Revision of a currently approved collection.

Respondents: Business or other for-profit entities.

Number of Respondents: 11 respondents; 20 responses.

Estimated Time per Response: 0.5 hours-3 hours.

Frequency of Response: On occasion reporting requirement; Third party disclosure requirement.

Obligation to Respond: Required to obtain or retain benefits. The statutory authority for this collection is contained in Sections 1, 4(i)-(j), 201-205, 211, 214, 219-220, 303(r), 309 and 403 of the Communications Act of 1934, as amended, 47 U.S.C 151, 154(i)-(j), 201-205, 211, 214, 219-220, 303(r), and 403.

Total Annual Burden: 15 hours.

Annual Cost Burden: $13,300.

Needs and Uses: The Federal Communications Commission (Commission) is requesting that the Office of Management and Budget (OMB) to approve a revision to OMB Control No. 3060-1028—International Signaling Point Code. The Commission is developing revised and new electronic forms for this collection as part of the Commission's modernization of its online, web-based electronic filing system—the International Bureau filing system (IBFS). This information collection seeks approval for the new and revised forms to request an International Signaling Point Code (ISPC), and reflects changes in the costs and burdens associated with these applications.

An ISPC is a unique, seven-digit code used to identify the signaling network of each international carrier. The ISPC has a unique format that is used at the international level for signaling message routing and identification of signaling points in Signaling System 7 networks. ISPC applications are filed through IBFS. After receipt of the ISPC application, the Commission assigns the ISPC code to each applicant (international carrier) free of charge on a first-come, first-served basis. The collection of this information is required to assign a unique identification code to each international carrier and to facilitate communication among international carriers by their use of the ISPC code on the shared signaling network. The Commission informs the International Telecommunication Union (ITU) of its assignment of ISPCs to international carriers on an ongoing basis.

In 1987, the Commission assumed the responsibility as the Administrator for the U.S. of issuing ISPCs to international carriers based on an exchange of letters between AT&T, the Commission, and the International Telecommunications Union-Telecommunications Standardization (ITU-T). The ITU allocates a specific amount of ISPCs to member countries for assignment to carriers. ITU-T Recommendation Q.708 includes a list of criteria for assignment of signaling point codes.

The ITU, headquartered in Geneva, Switzerland, is an international organization within the United Nations System where governments and the private sector coordinate global telecom networks and services. The ITU-T, which is one of three sectors of the ITU, has a continuing role in preparing the technical specifications for telecommunications systems, networks and services, including their operation, performance and maintenance. In addition, the ITU-T oversees the tariff principles and accounting methods used to provide international services.

Pursuant to the ITU guidance contained in ITU-T Recommendation Q.708, the Commission must obtain certain information from an applicant requesting a new ISPC assignment. This information is used by the Commission to assess whether the applicant's use of the ISPC will be in compliance with ITU guidelines. The minimum information required is the name of the applicant and the name of the signaling point (typically the city where the ISPC will be located). ITU-T Recommendation Q.708 states that administrators can request additional information from applicants, which may include applicant contact information; location(s) where the ISPC(s) will be implemented; description of the nature of the use of the ISPC(s) in the network; a statement regarding the signaling point manufacturer/type; and identification of at least one planned Message Transfer Part (MTP) signaling relation. Applicants must also make several certifications/acknowledgments regarding their obligations and rights associated with an ISPC assignment. Operators that have been assigned an ISPC must also notify the Commission when any parameters of their code assignment(s) have changed (i.e., modifications), such as a change in the location where the ISPC has been implemented. In the event that an assigned ISPC has undergone a transfer of control as a result of a merger, acquisition, divestiture, or formation of a joint venture, the ISPC operator must notify the Commission of the transfer and the identity of the new holder of the ISPC (along with relevant contact information).

IBFS Modernization of ISPC Electronic Forms. The Commission seeks OMB approval of revisions to its ISPC application form and the addition of new forms that will be electronically filed through IBFS. The new online forms will ensure the Commission collects the information required by the Commission's rules. The use of such online forms will reduce costs and administrative burdens on applicants, resulting in greater efficiencies, and improve transparency to the public. Once the Commission receives approval for the new forms from OMB, as required by section 1.10006 of the Commission's rules, we will announce the availability of mandated e-forms and their effective dates.

OMB Control No.: 3060-1029.

Title: Data Network Identification Code (DNIC).

Form No.: N/A.

Type of Review: Revision of a currently approved collection.

Respondents: Business or other for-profit entities.

Number of Respondents: 1 respondent; 2 responses.

Estimated Time per Response: 0.5-4 hours.

Frequency of Response: On occasion reporting requirement.

Obligation To Respond: Required to obtain or retain benefits. The statutory authority for this collection is contained in Sections 1, 4(i)-(j), 201-205, 211, 214, 219-220, 303(r), 309, and 403 of the Communications Act of 1934, as amended, 47 U.S.C. 151, 154(i)-(j), 201-205, 211, 214, 219-220, 303(r), 309 and 403

Total Annual Burden: 6.5 hours.

Annual Cost Burden: $1,850

Needs and Uses: The Federal Communications Commission (“Commission”) is requesting that the Office of Management and Budget (OMB) to approve a revision to OMB Control No. 3060-1029—Data Network Identification Code (DNIC). The Commission is developing revised and new electronic forms for this collection as part of the Commission's modernization of its online, web-based electronic filing system—the International Bureau filing system (IBFS). This Supporting Statement seeks approval for the new and revised forms to request an International Signaling Point Code (ISPC), and reflects changes in the costs and burdens associated with these applications.

A Data Network Identification Code (DNIC) is a unique, four-digit number designed to provide discrete identification of individual public data networks. The DNIC is intended to identify and permit automated switching of data traffic to particular networks. The DNIC is the central device of the international data numbering plan developed by the International Telecommunications Union (ITU) and set forth in Recommendation X.121. Prior to the availability of electronic web-based application forms in 1999, the Commission used an informal process for assigning DNICs. In the informal system, a company desiring a code would notify the Commission that it wishes one assigned and demonstrate that it has the ability to originate and terminate international traffic (e.g,, by showing an interconnection arrangement with a U.S. international carrier) and the Commission would assign a DNIC. In 1986, the Commission established procedures for the assignment of DNICs to interested data network operators. Today, the operators of public data networks file an application for a DNIC in IBFS. The DNIC is obtained on a one-time only basis unless there is a change in ownership or the owner chooses to relinquish the code to the Commission.

IBFS Modernization of DNIC Electronic Forms. The Commission seeks OMB approval of revisions to its DNIC application form and the addition of new forms that will be electronically filed through IBFS. The new online forms will ensure the Commission collects the information required by the Commission's rules. The use of such online forms will reduce costs and administrative burdens on applicants, resulting in greater efficiencies, and improve transparency to the public. Once the Commission receives approval for the new forms from OMB, as required by section 1.10006 of the Commission's rules, we will announce the availability of mandated e-forms and their effective dates.

Federal Communications Commission.
Marlene Dortch,
Secretary, Office of the Secretary.

[FR Doc. 2023-07147 Filed 4-5-23; 8:45 am]

BILLING CODE 6712-01-P